DEPARTMENT OF COMMERCE

National Oceanic and Atmospheric Administration

[I.D. 041103A]

Endangered and Threatened Species; Take of Anadromous Fish

AGENCY: National Marine Fisheries Service (NMFS), National Oceanic and Atmospheric Administration (NOAA), Commerce.

ACTION: Receipt of applications for 10 scientific research permits and three permit modifications.

SUMMARY: Notice is hereby given that NMFS has received 11 permit applications and three applications to modify existing scientific research permits relating to Pacific salmon and steelhead. All of the proposed research is intended to increase knowledge of species listed under the Endangered Species Act (ESA) and to help guide management and conservation efforts.

DATES: Comments or requests for a public hearing on the applications or modification requests must be received no later than 5 p.m. Pacific daylight savings time on May 30, 2003.

ADDRESSES: Written comments on the applications or modification requests should be sent to Protected Resources Division, NMFS, F/NWO3, 525 NE Oregon Street, Suite 500, Portland, OR 97232-2737. Comments may also be sent via fax to 503-230-5435. Comments will not be accepted if submitted via e-mail or the internet.

FOR FURTHER INFORMATION CONTACT: Garth Griffin, Portland, OR (ph: 503-231-2005, Fax: 503-230-5435, e-mail: Garth.Griffin@noaa.gov). Permit application instructions are available at http://www.nwr.noaa.gov.

SUPPLEMENTARY INFORMATION:

Species Covered in This Notice

The following listed species and evolutionarily significant units (ESUs) are covered in this notice:

Sockeye salmon (Oncorhynchus nerka): endangered Snake River (SR).

Chinook salmon (O. tshawytscha): endangered natural and artificially propagated upper Columbia River (UCR); threatened natural and artificially propagated SR spring/summer (S/S); threatened SR fall; threatened lower Columbia River (LCR); threatened artificially produced Puget Sound (PS); threatened upper Willamette River (UWR).

Chum salmon (O. keta): threatened Columbia River (CR).

Steelhead (O. mykiss): endangered natural and artificially propagated UCR; threatened SR; threatened middle Columbia River (MCR); threatened LCR.

Coho Salmon (O. kisutch): threatened Oregon coast (OC).

Authority

Scientific research permits are issued in accordance with Section 10(a)(1)(A) of the ESA (16 U.S.C. 1531 et. seq.) and regulations governing listed fish and wildlife permits (50 CFR 222-226). NMFS issues permits/modifications based on findings that such permits and modifications: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such hearing is at the discretion of the Assistant Administrator for Fisheries, NOAA.

Permit Applications Received

Permit 1119

The U.S. Fish and Wildlife Service (USFWS) is seeking a 5-year permit covering five studies that, among them, would annually take adult and juvenile endangered UCR spring chinook salmon (natural and artificially propagated) and adult and juvenile endangered UCR steelhead (natural and artificially propagated) at various points in the Wenatchee, Entiat, Methow, Okanogan, and Yakima River watersheds and other points in eastern Washington State. The research was originally conducted under Permit 1119, which was in place for 5 years (63 FR 27055) with two amendments (65 FR 11288, 66 FR 38641); it expired on December 31, 2002. Over the years, there have been some changes in the research and they are reflected in this proposal (e.g., the aforementioned amendments), nonetheless, the proposed projects are largely continuations of ongoing research. They are: Study 1-Recovery of ESA-listed Entiat River Salmonids through Improved Management Actions; Study 2-From extirpation to colonization: an attempt to restore salmon back to their former streams; Study 3-Entiat Basin Spawning Ground Surveys; Study 4-Snorkel Surveys in the Wenatchee, Entiat, Methow, Okanogan, and Yakima Watersheds and Other Waterways of Eastern Washington; Study; 5-Fish Salvage Activities in the Wenatchee, Entiat, Methow, Okanogan, and Yakima Watersheds and other Waterways of Eastern Washington. Under these studies, listed adult and juvenile salmon would be variously (a) captured (using nets, traps, and electrofishing equipment) and anesthetized; (b) sampled for biological information and tissue samples; (c) tagged with passive integrated transponders (PIT tags) or other identifiers; and (e) released.

The research has many purposes and would benefit listed salmon and steelhead in different ways. In general, the purpose of the research is to (a) gain current information on the status and productivity of various fish populations (to be used in determining the effectiveness of restoration programs); (b) collect data on the how well artificial propagation programs are helping salmon recovery efforts (looking at hatchery and wild fish interactions); (c) support the aquatic species restoration goals found in several regional plans; and (d) fulfill ESA requirements for several fish hatcheries. The fish would benefit through improved recovery actions, better designs for hatchery supplementation programs, and by being rescued outright when they are stranded by low flows in Eastern Washington streams. The USFWS does not intend to kill any of the fish being captured, but a small percentage may die as an unintended result of the research activities.

Permit 1194

The Northwest Fisheries Science Center (NWFSC) in Seattle, WA is requesting a 5-year permit to annually take adult endangered UCR steelhead, adult endangered UCR spring chinook salmon, and adult threatened SR spring/summer chinook salmon during a study designed to evaluate passive integrated transponder tag (PIT) interrogation systems at Bonneville Dam on the Columbia River. Permit 1194 has been in place for almost 5 years and is due to expire on December 31, 2003. The NWFSC proposes to continue to capture (using traps at Bonneville Dam), anesthetize, tag, release, and monitor with video cameras adult fish.

The objectives of the study are to evaluate the ability of the prototype tag detection systems to detect PIT-tagged adult salmon passing through the facility and evaluate the effects of the detection system on adult behavior as they approach and pass through it. The NWFSC does not intend to kill any of the fish being captured, but a small percentage may die as an unintended result of the research activities.

Permit 1335-Modification 2

The USDA Forest Service (USFS) in Corvallis, OR requests that Permit 1335 be modified to allow them to increase annual takes of juvenile endangered UCR chinook (artificially propagated); juvenile threatened LCR chinook salmon; juvenile threatened UWR chinook salmon; juvenile threatened PS chinook (artificially propagated); juvenile endangered UCR steelhead (artificially propagated); juvenile threatened LCR steelhead; juvenile threatened UWR steelhead; juvenile threatened OC coho salmon; and juvenile threatened SONCC coho salmon in selected stream systems in the Columbia, Puget Sound, and Oregon Coast basins. The USFS proposes to capture (using backpack electrofishing), anesthetize, measure, and release listed salmonids.

The purposes of the study are to assess watershed conditions and factors limiting salmonid health and production, and evaluate watershed health under the Northwest Forest Plan. The activities will benefit listed fish by generating information to improve forest management. The USFS does not intend to kill any of the listed fish being captured, but a small percentage may die as an unintended result of the research activities.

Permit 1366-Modification 1

The Oregon Cooperative Fish and Wildlife Research Unit (OCFWRU) and the Idaho Cooperative Fish and Wildlife research Unit (ICFWRU) are requesting a 5-year permit covering four studies that, among them, would annually take juvenile threatened SR fall chinook salmon; juvenile threatened SR spring/summer chinook salmon (natural and artificially propagated); juvenile endangered UCR spring chinook salmon (natural and artificially propagated), juvenile threatened LCR chinook salmon; juvenile endangered UCR steelhead (natural and artificially propagated); juvenile threatened SR steelhead; and adult and juvenile endangered SR sockeye salmon at various dams on the Columbia and Snake Rivers. The research is largely a continuation of four ongoing studies (with some alteration in take numbers). They are: Study 1-\Evaluation of Comparative Survival of In-river Passage and Multiple Bypassed Juvenile Salmon; Study 2-Evaluation of Delayed Mortality in the Near-ocean Environment Following Passage Through the Columbia river Hydropower System; Study 3-Evaluation of Survival and Adult Return Rate of Transported Juvenile Salmon Compared to In-river Migrating Fish; Study 4-Evaluation of Migration and Survival of Juvenile Salmonids Following Transportation. Under these studies, juvenile listed salmon would be variously (a) captured using lift nets or dipnets at the dams (or acquired from Columbia River Smolt Monitoring Program or NMFS personnel at Bonneville Dam), (b) sampled for biological information or tagged with radiotransmitters, and (c) released.

The research has many purposes and would benefit listed salmon and steelhead in different ways. In general, the purpose of the research is to compare biological and physiological indices of wild and hatchery juvenile fish exposed to stress during bypass, collection, and transportation activities at the dams. The research will benefit the listed species by helping determine what effects the dams and their associated structures and management activities have on the outmigrating salmonids and using that information modify those factors in ways that increase salmonid survival.

Permit 1379

The Columbia River Inter Tribal Fish Commission (CRITFC) is requesting a 5-year permit covering three study projects that, among them, would annually take adult and juvenile threatened SR fall chinook salmon; adult and juvenile threatened SR spring/summer chinook salmon (natural and artificially propagated); juvenile endangered UCR spring chinook salmon (natural and artificially propagated), adult threatened LCR chinook salmon; adult and juvenile endangered UCR steelhead (natural and artificially propagated); adult and juvenile threatened SR steelhead; and adult and juvenile endangered SR sockeye salmon at various points in the Columbia, Wenatchee, and Methow Rivers in Washington State. The research was originally conducted under Permit 1134, which was in place for 5 years (63 FR 30199) with one amendment (67 FR 43909); it expired on December 31, 2002. Over the years, there have been some changes in the research and they are reflected in this proposal (e.g., the aforementioned amendment and some reallocation of research activities and their associated take to this and other permits), nonetheless, the proposed projects are largely continuations of ongoing research. They are: Project 1-Juvenile Upriver Bright Fall Chinook Sampling at the Hanford Reach (does not directly target a listed species but would indirectly take them); Project 2-Adult Chinook, Sockeye, and Coho Sampling at Bonnevile Dam; and Project 3-Adult Sockeye Sampling at Tumwater Dam, Wenatchee River (does not directly target a listed species but would indirectly take them). Under these tasks, listed adult and juvenile salmon would be variously (a) captured (using seines, trawls, traps, hook-and-line angling equipment, and electrofishing equipment) and anesthetized; (b) sampled for biological information and tissue samples, (c) or tagged with radio transmitters or other identifiers, (e) and released.

The research has many purposes and would benefit listed salmon and steelhead in different ways. In general, the purpose of the research is to gain current information on the status and productivity of various fish populations, collect data on migratory and exploitation (harvest) patterns, and develop baseline information on various population and habitat parameters in order to guide salmonid restoration strategies all of which are of use on their own, but most of which are being done in accordance with specific requirements of the of the U.S. Canada Pacific Salmon Treaty. The research would continue to benefit listed fish by helping managers set in-river and ocean harvest regimes so that they have minimal impacts on listed populations, prioritize projects in a way that gives maximum benefit to listed species, and design strategies and activities to help recover them. The CRITFC does not intend to kill any of the fish being captured, but a small percentage may die as an unintended result of the research activities.

Permit 1382-Modification 1

The United States Geological Survey (USGS) is seeking a modification to Permit 1382 to take juvenile threatened MCR steelhead during the course of research designed to assess bull trout populations and life history and habitat characteristics in the Umatilla River, Oregon. Under permit 1382, the USGS is already conducting this type of research in the Wallawa River, Oregon. The researchers intend to use a variety of techniques to capture, mark, and monitor bull trout in the Umatilla River. The techniques that will affect MCR steelhead are snorkel surveys, backpack electrofishing, seining, trap netting, minnow trapping, and screw trapping. During the snorkeling exercise, the fish will simply be observed. Any MCR steelhead captured during the other operations will be counted and immediately released downstream from their capture sites.

The purpose of the research is to tie fish and population health (for bull trout) to habitat quality and land use in the Umatilla subbasin and thus assist in the process of recovery planning. MCR steelhead will benefit from this research because many of the habitat features bull trout require are also important to steelhead and therefore any improvement in those features for the purposes of recovering bull trout will be of help to the local depressed steelhead populations as well. The researchers do not intend to kill any of the listed fish being captured, but a small percentage may die as an unintended result of the research activities.

Permit 1403

The NWFSC is requesting a 5-year permit to annually take juvenile threatened SR spring/summer chinook salmon (natural); juvenile threatened SR steelhead; and juvenile threatened MCR steelhead at various places in the Salmon River subbasin, Idaho, and the John Day River subbasin in Oregon. The research encompasses two studies: Assessment of Three Alternative Methods of Nutrient Enhancement (Salmon Carcasses, Carcass Analogues, and Nutrient Pellets) on Biological Communities in Columbia River Tributaries, and Utilization of Nutrients from Spawning Salmon by Juvenile Chinook Salmon and Steelhead in the Columbia and Snake River Basins. Under these studies, the fish would variously be (a) captured (using seines, nets, traps and, possibly, electrofishing equipment) and anesthetized; (b) measured and weighed; (c) held for a time in enclosures in the stream from which they are captured; and (d) released. Both projects call for some juvenile listed fish to be intentionally killed as part of the research. It is also likely that a small percentage of the fish being captured would unintentionally be killed during the process. In addition, tissue samples would be taken from adult carcasses found on streambanks.

The research has many purposes and would benefit listed salmon and steelhead in different ways. In general, the purpose of the research is to (a) learn how salmonids acquire nutrients from the bodies of dead spawners and test three methods of using those nutrients to increase growth and survival among naturally produced salmonids and (b) determine the extent to which juvenile steelhead and chinook use marine-derived nutrients and learn more about the relationships between juvenile salmonid body size, population density, and nutrient uptake. The research will benefit the fish by helping managers use nutrient enhancement techniques to help recover listed salmonid populations. Moreover, managers will be able to gain a broader understanding of the role marine-derived nutrients play in ecosystem health as a whole. This, in turn, will help inform management decisions and actions intended to help salmon recovery in the future.

Permit 1406

The NWFSC is requesting a 5-year permit to annually take juvenile (and precocious male) threatened SR spring/summer chinook salmon (naturally produced) and juvenile threatened SR steelhead at various places in the Salmon River drainage in Idaho, at Little Goose Dam on the lower Snake River, and at multiple subbbasins in Northeast Oregon, Southeast Washington, and Idaho including the Clearwater and Grande Ronde Rivers. The research is largely a continuation of two long-term, ongoing studies formerly conducted under permits 852 and 1056; the studies have been in place for more than 10 years. They are: Monitoring the Migrations of wild Snake River Spring/summer Chinook Salmon Smolts and Monitoring and Evaluating the Genetic Characteristics of Supplemented Salmon and Steelhead. Under these studies, the listed fish would be variously captured (using seines, dip nets, and electrofishing), re-captured at a smolt bypass facility, anesthetized, tagged with PIT tags or otherwise marked, tissue sampled, weighed, measured, and released. Both projects call for some juvenile listed fish to be intentionally killed as part of the research. It is also likely that a small percentage of the fish being captured would unintentionally be killed during the process.

The research has many purposes and would benefit listed salmon and steelhead in different ways. In general, the purpose of the research is to continue monitoring juvenile out migration behavior and the effects of supplementation among steelhead spring/summer chinook salmon populations in Idaho. The research will benefit the fish by continuing to supply managers with the information they need to (a) budget water releases at hydropower facilities in ways that will help protect migrating juveniles, and (b) use hatchery programs to conserve listed species.

Permit 1421

The USFWS in Vancouver, WA is requesting a 3-year permit to annually take adult and juvenile endangered SR sockeye salmon; adult and juvenile endangered UCR spring chinook salmon (natural and artificially propagated); adult and juvenile endangered UCR steelhead (natural and artificially propagated); adult and juvenile threatened SR fall chinook salmon; adult and juvenile threatened SR spring/summer chinook salmon (natural and artificially propagated); adult and juvenile threatened SR steelhead; adult and juvenile threatened MCR steelhead; adult and juvenile threatened LCR chinook salmon; adult and juvenile threatened LCR steelhead; and adult and juvenile threatened CR chum salmon during the course of a study in the Franz Lake National Wildlife Refuge on the Lower Columbia River. The USFWS proposes to capture (using boat and backpack electrofishing, fyke nets, and minnow traps), anesthetize, measure, check for tags, mark, sample for stomach content, and release listed salmonids.

The objectives of the study are to (1) document fish species in the refuge, (2) evaluate fish distribution relative to habitat features, and (3) describe fish diets in the refuge. The study will be coordinated with a mosquito control study conducted by the Oregon Cooperative Fish and Wildlife Research Unit. The study will benefit listed fish by generating information on the effects of mosquito control on salmonids and salmonid prey species, and the spacial and temporal relations among fish distribution, fish diets, and areas typically treated to control mosquitos. The USFWS does not intend to kill any of the listed fish being captured, but a small percentage may die as an unintended result of the research activities.

Permit 1422

The USFS is requesting a 5-year permit to annually take juvenile endangered UCR chinook salmon, juvenile endangered UCR steelhead, and juvenile threatened MCR steelhead during research activities taking place at various points in the Yakima, Methow, Entiat, and Wenatchee River drainages in Washington State. The fish would be captured (using minnow traps, hook-and-line angling, and electrofishing equipment), identified, and immediately released. The purpose of the research is to determine fish distribution in the subbasins listed above. The research will benefit the fish by giving land managers information they need in order to design forest management activities (e.g., timber sales, grazing plans, road building) in such a way as to conserve listed species. The USFS does not intend to kill any of the listed fish being captured, but a small percentage may die as an unintended result of the research activities.

Permit 1423

The USFWS is requesting a 3-year permit to annually take juvenile endangered UCR steelhead and juvenile endangered UCR chinook (naturally propagated) at points near Icicle Creek and Entiat River National Fish Hatcheries in Washington State. The fish would be captured (using seines, minnow traps, a screw trap, electrofishing, and hook-and-line angling), anesthetized, measured, and killed. It is also likely that a small number of the fish being captured-over and above those that would be sacrificed would unintentionally be killed. Several samples would then be taken from the fish and used to determine whether any disease-viral or bacterial- was present in the population.

The purpose of the research is to determine if there are any interactions between wild and hatchery fish in terms of disease transmission and to gather baseline information on pathogen presence in the local fish populations. The research would benefit listed fish by increasing our knowledge of disease presence and transmission in the UCR and thereby help managers reduce the risks associated with those diseases.

Permit 1426

The Bonneville Power Administration (BPA) is requesting a 5-year permit to annually take adult threatened MCR steelhead at Roza Dam on the Yakima River, WA. Under this study, the adult MCR steelhead would be captured at the adult monitoring and broodstock collection facility on the adult ladder at Roza Dam, anesthetized, radio-tagged, allowed to recover, and released.

The purpose of the research is to determine the movements (migration timing, holding area locations, migration routes, etc.) of the steelhead in the upper Yakima watershed. The information would benefit the fish because it would be used to help develop supplementation plans and passage improvements as well as protecting and enhancing mainstem and tributary habitats the MCR steelhead use. The BPAdoes not intend to kill any of the listed fish being captured, but a small percentage may die as an unintended result of the research activities.

Permit 1427

The Oregon Department of Environmental Quality (ODEQ) in Eugene, OR is requesting a 5-year permit to annually take adult and juvenile threatened LCR chinook salmon, adult and juvenile threatened UWR chinook salmon, adult and juvenile threatened LCR steelhead and adult and juvenile threatened UWR steelhead associated with a study in the Willamette River, OR. The ODEQ proposes to capture (using boat electrofishing), count, and release listed salmonids.

The objectives of the study are to (1) describe the relationship between mercury in fish tissue and in the water column in order to develop a site-specific bioaccummulation factor, (2) describe the relationship between methlymercury in water and total mercury in water and sediment, and (3) begin to identify and quantify mercury sources and loadings in the Willamette River system. The study is designed to fulfill the requirement mandated by the Federal Clean Water Act and will benefit listed fish by helping reduce mercury loading in the Willamette River system. The ODEQ does not intend to kill any of the listed fish being captured, but a small percentage may die as an unintended result of the research activities.

This notice is provided pursuant to section 10(c) of the ESA. NMFS will evaluate the applications, associated documents, and comments submitted to determine whether the applications meet the requirements of section 10(a) of the ESA and Federal regulations. The final permit decisions will not be made until after the end of the 30 day comment period. NMFS will publish notice of its final actions in the Federal Register.

Dated: April 23, 2003.
Phil Williams,
Chief, Endangered Species Division, Office of Protected Resources, National Marine Fisheries Service.

[FR Doc. 03-10674 Filed 4-29-03; 8:45 am]

BILLING CODE 3510-22-S